DEPARTMENT OF ENERGY

Federal Energy Regulatory Commission

Combined Notice of Filings #2

Take notice that the Commission received the following electric rate filings:

Docket Numbers: ER10-1849-027; ER10-1852-062; ER12-895-026; ER12-1228-028; ER13-712-029; ER14-2707-023; ER15-1925-021; ER15-2676-020; ER16-1672-018; ER16-2190-017; ER16-2191-017; ER16-2275-016; ER16-2276-016; ER16-2453-018; ER17-2152-014; ER18-882-013; ER18-1863-011; ER18-2003-012; ER18-2118-013; ER18-2182-012; ER20-1907-005; ER20-2064-006; ER21-2149-004; ER21-2296-003.

Applicants: Ensign Wind Energy, LLC, Minco Wind Energy II, LLC, High Majestic Wind I, LLC, Minco Wind I, LLC, Minco IV & V Interconnection, LLC, Armadillo Flats Wind Project, LLC, Lorenzo Wind, LLC, Coolidge Solar I, LLC, Elk City Renewables II, LLC, Cottonwood Wind Project, LLC, Brady Interconnection, LLC, Kingman Wind Energy II, LLC, Kingman Wind Energy I, LLC, Brady Wind II, LLC, Brady Wind, LLC, Chaves County Solar, LLC, Cedar Bluff Wind, LLC, Breckinridge Wind Project, LLC, Mammoth Plains Wind Project, LLC, Cimarron Wind Energy, LLC, High Majestic Wind II, LLC, Minco Wind Interconnection Services, LLC, Florida Power & Light Company, Elk City Wind, LLC.

Description: Notice of Change in Status of Elk City Wind, LLC (Part 1 of 2), et al.

Filed Date: 3/3/22.

Accession Number: 20220303-5255.

Comment Date: 5 p.m. ET 3/24/22.

Docket Numbers: ER10-1910-023; ER10-1911-023.

Applicants: Duquesne Power, LLC, Duquesne Light Company.

Description: Notice of Change in Status of Duquesne Light Company, et al.

Filed Date: 3/3/22.

Accession Number: 20220303-5256.

Comment Date: 5 p.m. ET 3/24/22.

Docket Numbers: ER11-2376-001; ER11-2376-002.

Applicants: Orange and Rockland Utilities, Inc.

Description: Notice of Non-Material Change in Status of Orange and Rockland Utilities, Inc.

Filed Date: 3/3/22.

Accession Number: 20220303-5251.

Comment Date: 5 p.m. ET 3/24/22.

Docket Numbers: ER17-1607-004; ER17-1608-004; ER20-27-004.

Applicants: Wright Solar Park LLC, Sunray Energy 3 LLC, Sunray Energy 2, LLC.

Description: Notice of Non-Material Change in Status of Sunray Energy 2, LLC, et al.

Filed Date: 3/3/22.

Accession Number: 20220303-5252.

Comment Date: 5 p.m. ET 3/24/22.

Docket Numbers: ER21-2652-004.

Applicants: Caddo Wind, LLC.

Description: Notice of Non-Material Change in Status of Caddo Wind, LLC.

Filed Date: 3/4/22.

Accession Number: 20220304-5288.

Comment Date: 5 p.m. ET 3/25/22.

Docket Numbers: ER21-2699-004; ER18-2066-007; ER11-4462-064; ER17-838-039; ER10-1951-042; ER16-2241-016; ER20-792-006; ER16-2297-016; ER14-2710-023; ER15-58-021; ER20-1991-006; ER18-1981-012; ER16-1440-017; ER19-1128-006; ER16-2240-017; ER14-2709-023; ER15-30-021; ER14-2708-024; ER18-2314-008; ER20-2603-006; ER20-780-006; ER20-2597-006; ER13-2474-022; ER20-2237-006; ER19-2495-008; ER18-2032-012; ER20-637-006; ER19-2513-008.

Applicants: Wilton Wind Energy II, LLC, Wilton Wind Energy I, LLC, Wildcat Ranch Wind Project, LLC, Wessington Springs Wind, LLC, Weatherford Wind, LLC, Steele Flats Wind Project, LLC, Soldier Creek Wind, LLC, Sooner Wind, LLC, Skeleton Creek Wind, LLC, Sholes Wind Energy, LLC, Seiling Wind, LLC, Seiling Wind Interconnection Services, LLC, Seiling Wind II, LLC, Rush Springs Wind Energy, LLC, Rush Springs Energy Storage, LLC, Roswell Solar, LLC, Pratt Wind, LLC, Ponderosa Wind, LLC, Palo Duro Wind Interconnection Services, LLC, Palo Duro Wind Energy, LLC, Osborn Wind Energy, LLC, Oklahoma Wind, LLC, Ninnescah Wind Energy, LLC, Gexa Energy L.L.C., NextEra Energy Marketing, LLC, NEPM II, LLC, Minco Wind IV, LLC, Minco Wind Energy III, LLC.

Description: Notice of Change in Status of Elk City Wind, LLC (Part 2 of 2), et al.

Filed Date: 3/3/22.

Accession Number: 20220303-5257.

Comment Date: 5 p.m. ET 3/24/22.

Docket Numbers: ER22-921-001.

Applicants: Public Service Company of Colorado.

Description: Tariff Amendment: 2022-03-07 PSC-CORE-SISA-670-Admin Update to be effective 1/29/2022.

Filed Date: 3/7/22.

Accession Number: 20220307-5133.

Comment Date: 5 p.m. ET 3/28/22.

Docket Numbers: ER22-1065-001.

Applicants: Rabbitbrush Solar, LLC.

Description: Tariff Amendment: Amendment to MBR Petition and Request for Expedited Action to be effective 2/17/2022.

Filed Date: 3/7/22.

Accession Number: 20220307-5170.

Comment Date: 5 p.m. ET 3/28/22.

Docket Numbers: ER22-1199-000.

Applicants: New York State Electric & Gas Corporation.

Description: New York State Electric & Gas Company submits a Request for Limited One-Time Prospective Waiver of Tariff Provisions with Expedited Consideration.

Filed Date: 3/3/22.

Accession Number: 20220303-5231.

Comment Date: 5 p.m. ET 3/24/22.

Docket Numbers: ER22-1203-000.

Applicants: Dominion Energy South Carolina, Inc.

Description: Compliance filing: Order 676-J Compliance filing to be effective 12/31/9998.

Filed Date: 3/7/22.

Accession Number: 20220307-5074.

Comment Date: 5 p.m. ET 3/28/22.

Docket Numbers: ER22-1207-000.

Applicants: New York Independent System Operator, Inc., Niagara Mohawk Power Corporation.

Description: § 205(d) Rate Filing: New York Independent System Operator, Inc. submits tariff filing per 35.13(a)(2)(iii: Joint 205 SGIA among NYISO, NMPC, KCE NY 6 for Battery Storage Project SA2673 to be effective 2/18/2022.

Filed Date: 3/7/22.

Accession Number: 20220307-5118.

Comment Date: 5 p.m. ET 3/28/22.

Docket Numbers: ER22-1208-000; ER21-1294-000; ER22-671-000.

Applicants: SunZia Transmission, LLC, Pattern Energy Group LP, SunZia Transmission, LLC, SunZia Transmission, LLC.

Description: SunZia Transmission, LLC et al. Request for Negotiated Rate Authorization and Filing of a Post-Selection Open Solicitation Report.

Filed Date: 3/1/22.

Accession Number: 20220301-5387.

Comment Date: 5 p.m. ET 3/22/22.

Docket Numbers: ER22-1209-000.

Applicants: AEP Texas Inc.

Description: § 205(d) Rate Filing: AEPTX-Louise Solar (Texana Solar) 1st A&R Generation Interconnection Agreement to be effective 2/22/2022.

Filed Date: 3/7/22.

Accession Number: 20220307-5135.

Comment Date: 5 p.m. ET 3/28/22.

Docket Numbers: ER22-1210-000.

Applicants: PacifiCorp.

Description: § 205(d) Rate Filing: RS 411 Black Hills PSA 3rd Amended to be effective 5/1/2022.

Filed Date: 3/7/22.

Accession Number: 20220307-5143.

Comment Date: 5 p.m. ET 3/28/22.

Docket Numbers: ER22-1211-000.

Applicants: PJM Interconnection, L.L.C.

Description: § 205(d) Rate Filing: Original NSA, SA No. 6376; Queue Nos. AC2-100 and AD1-131 to be effective 2/4/2022.

Filed Date: 3/7/22.

Accession Number: 20220307-5157.

Comment Date: 5 p.m. ET 3/28/22.

Docket Numbers: ER22-1212-000.

Applicants: Tucson Electric Power Company.

Description: Compliance filing: Revisions to Market-Based Rate Tariff Reflecting EIM Participation to be effective 5/3/2022.

Filed Date: 3/7/22.

Accession Number: 20220307-5173.

Comment Date: 5 p.m. ET 3/28/22.

Docket Numbers: ER22-1213-000.

Applicants: UNS Electric, Inc.

Description: Compliance filing: Revisions to Market-Based Rate Tariff Reflecting EIM Participation to be effective 5/3/2022.

Filed Date: 3/7/22.

Accession Number: 20220307-5174.

Comment Date: 5 p.m. ET 3/28/22.

Docket Numbers: ER22-1214-000.

Applicants: UniSource Energy Development Company.

Description: Compliance filing: Revisions to Market-Based Rate Tariff Reflecting EIM Participation to be effective 5/3/2022.

Filed Date: 3/7/22.

Accession Number: 20220307-5176.

Comment Date: 5 p.m. ET 3/28/22.

Docket Numbers: ER22-1215-000.

Applicants: Public Service Company of Colorado.

Description: Tariff Amendment: 2022-03-07 PSC-CORE-SISA-670-Admin-Cancel to be effective 3/8/2022.

Filed Date: 3/7/22.

Accession Number: 20220307-5183.

Comment Date: 5 p.m. ET 3/28/22.

Docket Numbers: ER22-1216-000.

Applicants: Public Service Company of New Mexico.

Description: § 205(d) Rate Filing: 4th Revised NTUA/NOA Agreements to be effective 3/1/2022.

Filed Date: 3/7/22.

Accession Number: 20220307-5187.

Comment Date: 5 p.m. ET 3/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2022.
Debbie-Anne A. Reese,
Deputy Secretary.

[FR Doc. 2022-05168 Filed 3-10-22; 8:45 am]

BILLING CODE 6717-01-P